DEPARTMENT OF TRANSPORTATION

Surface Transportation Board

[STB Finance Docket No. 33902]

Ohio Southern Railroad, Inc.—Trackage Rights Exemption—Pennsylvania Lines LLC and Norfolk Southern Railway Co.

Pennsylvania Lines LLC and Norfolk Southern Railway Company (NSR) have agreed to grant overhead trackage rights to Ohio Southern Railroad, Incorporated (OSRR) over 18.4 miles of the West Virginia Secondary line between milepost RR 47.3, at New Lexington, OH, and milepost RR 65.7, near Glouster, OH (line).¹

¹ The line is owned by PRR and operated by NSR.

The earliest the transaction can be consummated is July 12, 2000, the effective date of the exemption. However, the parties have stated that consummation will not occur until an agreed upon date has been established by OSRR and NSR, which is expected to occur following the latter of (1) the effective date of the exemption, or (2) the expiration of any NSR's labor notice to its employees.

The trackage rights will permit OSRR to bridge presently unconnected segments of its line, and to initiate direct, single carrier service from Glouster Coal Company's Buckingham Mine to Zanesville, OH.² The purpose of the transaction is to maintain and enhance the financial and operational stability of OSRR, to maintain efficient rail service over its lines, and to reduce the number of inter-carrier interchanges needed to move coal from the Buckingham Mine to Glouster Coal Company's customers.

² This transaction is related to Ohio Southern Railroad, Incorporated—Acquisition and Operation Exemption—Pennsylvania Lines LLC and Norfolk Southern Railway Company, STB Finance Docket No. 33895 (STB served July 18, 2000), and Ohio Southern Railroad, Incorporated-Acquisition and Operation Exemption-Glouster Coal Company, Glouster, OH, STB Finance Docket No. 33896 (STB served July 18, 2000), to exempt OSRR's extension of its lines from Wilbren, OH, to New Lexington, and from a point on NSR's West Virginia Secondary line near Glouster, to the Buckingham Mine.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33902, must be filed with the Surface Transportation Board, Office of the Secretary, Case Control Unit, 1925 K Street, NW., Washington, DC 20423-0001. In addition, one copy of each pleading must be served on Kelvin J. Dowd, Esq., Slover & Loftus, 1224 Seventeenth Street, NW., Washington, DC 20036.

Board decisions and notices are available on our website at “WWW.STB.DOT.GOV.”

Decided: July 11, 2000.
By the Board, Joseph H. Dettmar, Acting Director, Office of Proceedings.
Vernon A. Williams,
Secretary.

[FR Doc. 00-18046 Filed 7-17-00; 8:45 am]

BILLING CODE 4915-00-P